DEPARTMENT OF HOMELAND SECURITY

Coast Guard

33 CFR Part 117

[USCG-2014-0048]

Drawbridge Operation Regulations; Saugatuck River, CT

AGENCY: Coast Guard, DHS.

ACTION: Notice of temporary deviation from regulations.

SUMMARY: The Commander, First Coast Guard District, has issued a temporary deviation from the regulations governing the operation of the Metro North (SAGA) Bridge. The deviation is necessary to facilitate replacement of timber ties at the bridge. This deviation allows the Metro North SAGA Bridge, across Saugatuck River, mile 1.1, at Saugatuck, Connecticut, to require an advance notice for bridge openings for 15 days at various times.

DATES: This deviation is effective from March 17, 2014 through March 31, 2014.

ADDRESSES: The docket for this deviation, [USCG-2014-0048] is available at http://www.regulations.gov. Type the docket number in the “SEARCH” box and click “SEARCH.” Click on Open Docket Folder on the line associated with this deviation. You may also visit the Docket Management Facility in Room W12-140, on the ground floor of the Department of Transportation West Building, 1200 New Jersey Avenue SE., Washington, DC, 20590, between 9 a.m. and 5 p.m., Monday through Friday, except Federal holidays.

FOR FURTHER INFORMATION CONTACT: If you have questions on this temporary deviation, call or email Ms. Judy Leung-Yee, Project Officer, First Coast Guard District, judy.k.leung-yee@uscg.mil, or (212) 668-7165. If you have questions on viewing the docket, call Cheryl Collins, Program Manager, Docket Operations, telephone 202-366-9826.

SUPPLEMENTARY INFORMATION:

The Metro North SAGA Bridge, across Saugatuck River, mile 1.1, at Saugatuck, Connecticut, has a vertical clearance of 13 feet at mean high water in the closed position. The existing drawbridge operating regulations are listed at 33 CFR 117.221(b).

The Saugatuck River is transited primarily by seasonal recreational vessels of various sizes.

The Connecticut Department of Transportation requested a temporary deviation to facilitate replacement of railroad ties at the bridge.

Under this temporary deviation the Metro North SAGA Bridge will require a two hour advance notice for bridge openings from March 17, 2014 through March 31, 2014, between 8:10 a.m. and 4 p.m., Monday through Friday and between 7 a.m. and 4 p.m., on Saturday and Sunday. Vessels that can pass under the closed draw may do so at all times.

In accordance with 33 CFR 117.35(e), the bridge must return to its regular operating schedule immediately at the end of the designated deviation period. This deviation from the operating regulations is authorized under 33 CFR 117.35.

Dated: February 20, 2014.
C.J. Bisignano,
Supervisory Bridge Management Specialist, First Coast Guard District.

[FR Doc. 2014-05098 Filed 3-10-14; 8:45 am]

BILLING CODE 9110-04-P